DEPARTMENT OF COMMERCE

National Oceanic and Atmospheric Administration

50 CFR Part 679

[Docket No. 011218304-2062-02; I.D. 121701A]

RIN 0648-AP69

Fisheries of the Exclusive Economic Zone Off Alaska; Steller Sea Lion Protection Measures and 2002 Harvest Specifications and Associated Management Measures for the Groundfish Fisheries off Alaska; Correction

AGENCY: National Marine Fisheries Service (NMFS), National Oceanic and Atmospheric Administration (NOAA), Commerce.

ACTION: Emergency interim rule; correction.

SUMMARY: This document corrects the correction to an emergency interim rule published July 10, 2002, by adding information that should have been included in the correction. The emergency interim rule, published January 8, 2002, implements Steller sea lion protection measures and 2002 harvest specifications for the Alaska groundfish fishery. The correction was needed to afford Atka mackerel fishery participants an additional opportunity to register for the 2002 B season harvest limit area (HLA) fishery in the Aleutian Islands subarea. Through an oversight, the correction to the emergency rule did not reference collection-of-information requirements subject to the Paperwork Reduction Act, which had been submitted under the January 8, 2002, emergency interim rule. Therefore, this document is being published to address this issue.

DATES: Effective July 10, 2002.

ADDRESSES: Send comments on collection-of-information requirements to Sue Salveson, Assistant Regional Administrator, Sustainable Fisheries Division, Alaska Region, NMFS, P.O. Box 21668, Juneau, AK, 99802, Attn: Lori Durall and to the Office of Information and Regulatory Affairs (OIRA), Office of Management and Budget (OMB), Washington, DC 20503 (Attn: NOAA Desk Officer).

FOR FURTHER INFORMATION CONTACT: Melanie Brown, NMFS, 907-586-7228 or e-mail at melanie.brown@noaa.gov.

SUPPLEMENTARY INFORMATION: An emergency interim rule was published January 8, 2002 (67 FR 956), amended and corrected May 1, 2002 (67 FR 21600), extended May 16, 2002 (67 FR 3486), and corrected July 10, 2002 (67 FR 45672). The July 10, 2002, correction to the emergency interim rule implements a registration process for the 2002 B season HLA directed fishery for Atka mackerel and clarified the requirements for registration in the Atka mackerel HLA directed fishery for the B season starting September 1, 2002. However, its Classification section did not address the information requirement for the registration process.

Need for Correction

This document inadvertently omitted required PRA text and must be corrected by adding it.

Correction

Accordingly, the correction to the emergency rule on July 10, 2002, FR Doc. 02-17045 is further corrected as follows:

On page 45672, column 2, under Classification add the following text as the first paragraph of the Classification section:

Classification

The correction of an emergency interim rule published July 10, 2002 (67 FR 45671, FR Doc. 02-17045), contained a collection-of-information requirement subject to the PRA that has been approved by the Office of Management and Budget (OMB) under OMB control number 0648-0206. For the Federal Fisheries Permit registration, the estimated response time is 21 minutes. The response-time estimate includes the time for reviewing instructions, searching existing data sources, gathering and maintaining the data needed, and completing and reviewing the collection of information. Send comments regarding this burden estimate, or any other aspect of this data collection, including suggestions for reducing the burden, to NMFS (see ADDRESSES) and to the Office of Information and Regulatory Affairs, Office of Management and Budget, Washington, DC 20503 (Attn: NOAA Desk Officer).

Notwithstanding any other provisions of the law, no person is required to respond to, and no person shall be subject to a penalty for failure to comply with a collection of information subject to the requirements of the PRA, unless that collection of information displays a currently valid OMB control number.

List of Subjects in 50 CFR Part 679

Alaska, Fisheries, Recordkeeping and reporting requirements.

Dated: July 15, 2002.
Rebecca Lent,
Deputy Assistant Administrator for Regulatory Programs, National Marine Fisheries Service.

[FR Doc. 02-18264 Filed 7-18-02; 8:45 am]

BILLING CODE 3510-22-S